COMMISSION ON CIVIL RIGHTS

Agenda and Notice of Public Meeting of the Wyoming Advisory Committee

Notice is hereby given, pursuant to the provisions of the rules and regulations of the U.S. Commission on Civil Rights, that a conference call of the Wyoming State Advisory Committee will convene at 12 p.m. (MST) and adjourn at 1 p.m. (MST), Thursday, November 17, 2005. The purpose of the conference call is to discuss strategic planning including plans regional project on discrimination against Native Americans in reservation border towns, possible participation in school desegregation project, and progress of current SAC briefing summary, “Dropout Rates of Minority Students in Wyoming Public Secondary Schools.”

This conference call is available to the public through the following call-in number: 1-800-473-7796; access code: 45188082. Any interested member of the public may call this number and listen to the meeting. Callers can expect to incur charges for calls not initiated using the supplied call-in number or over wireless lines and the Commission will not refund any incurred charges. Callers will incur no charge for calls using the call-in number over land-line connections. Persons with hearing impairments may also follow the proceedings by first calling the Federal Relay Service at 1-800-977-8339 and providing the Service with the conference call number and access code.

To ensure that the Commission secures an appropriate number of lines for the public, persons are asked to register by contacting Malee Craft, Rocky Mountain Regional Office, (303) 866-1040 (TDD 303-866-1049), by 3 p.m. (MST) on Monday, November 14, 2005.

The meeting will be conducted pursuant to the provisions of the rules and regulations of the Commission.

Dated at Washington, DC, November 7, 2005.
Ivy L. Davis,
Acting Chief, Regional Programs Coordination Unit.

[FR Doc. 05-22654 Filed 11-15-05; 8:45 am]

BILLING CODE 6335-01-P